DEPARTMENT OF COMMERCE

Foreign-Trade Zones Board

[B-23-2019]

Foreign-Trade Zone (FTZ) 38—Mount Pleasant, South Carolina; Notification of Proposed Production Activity; Electrolux Home Products, Inc. (Appliances), Anderson, South Carolina

The South Carolina State Ports Authority, grantee of FTZ 38, submitted a notification of proposed production activity to the FTZ Board on behalf of Electrolux Home Products, Inc. (Electrolux), located in Anderson, South Carolina. The notification conforming to the requirements of the regulations of the FTZ Board (15 CFR 400.22) was received on March 28, 2019.

Electrolux's facility is located within Subzone 38N. The facility is used for the production of refrigerators and freezers. Pursuant to 15 CFR 400.14(b), FTZ activity would be limited to the specific foreign-status materials/components and specific finished products described in the submitted notification (as described below) and subsequently authorized by the FTZ Board.

Production under FTZ procedures could exempt Electrolux from customs duty payments on the foreign-status materials/components used in export production (estimated 12 percent of production). On its domestic sales, for the foreign-status materials/components noted below, Electrolux would be able to choose the duty rates during customs entry procedures that apply to all refrigerators-less than 900 liters side by side, chest freezers-less than 800 liters, and upright freezers-less than 900 liters for residential use (duty-free). Electrolux would be able to avoid duty on foreign-status components which become scrap/waste. Customs duties also could possibly be deferred or reduced on foreign-status production equipment.

The materials/components sourced from abroad include: Cyclopentane blowing agent—polyurethane foam; catalyst polycat insulation; surfactant insulation; compressor oil; polyol; isocycanate insulation; ice maker tubes and water lines; diffuser tops; plug-rubber suction tubes made of neoprene; glass shelves; glass crispers; crisper covers, freezer shelves made of clear flat tempered glass; stainless steel reversible, right hand refrigerator and freezer doors; steel, stainless steel, and serrated steel screws with zinc finish; steel screws with black phosphate; cold rolled steel screws, pan heavy duty steel screws, gray steel screws, hex heavy duty screws with zinc finish; rivets made of carbon steel; aluminum tape; label nameplates made of acrylonitrile butadiene styrene (ABS) with adhesive; label nameplates made of aluminum, stainless steel, and chrome with spaces made of ABS and adhesives; compressors and compressors with grommets; sub-assembly compressors and grommets; top mount refrigerators for residential use; side by side refrigerators less than 900 liters for residential use; chest freezers less than 800 liters for residential use; upright freezers less than 900 liters for residential use; high efficiency and standard condensers made of steel wire tubes—one coat baked enamel or black epoxy powder finish; stainless steel door handles; ice maker kits; stainless steel handle kits; ice makers; freezer door stops; air diverters, large ice bucket containers, ice maker covers, and duct cross-overs made of high impact polystyrene; half width deli drawers made of crystal polystyrene; suction tube connectors with copper tubing; User Interface Carriers; housings for ice-maker doors made of acetyl; fan front direct current evaporators; frames and trims of crispers; outer panels for door of freezers and fresh food compartments made of cold-rolled sheet steel; housings made of ABS for control boxes; housings made of high impact polystyrene for user interfaces; ice maker brackets, tube drain ferrule tops made of high impact polystyrene; outer door panels; cross-over ducts made of high impact polystyrene; roller adjustable subassemblies; tapping plates for upper hinges made of steel; right hand and left hand fresh food cantilever shelf supports made of cold-rolled sheet steel; fresh food door stops; bracket center hinges made of coiled steel and hot rolled steel; handle kits; control box light shields made of transparent polycarbonate; ring locks made of cold rolled steel; lower hinge brackets; right-hand and left-hand sub-assemblies and roller assemblies; Z-pan assemblies; sub-assemblies of ice makers; dryers; refrigerator door stops; evaporator shelves; right hand lower hinge brackets; rear cover panels; rear panel mechanical controls; pan-crispers made of crystal polystyrene; housing control boxes made of high impact polystyrene; knob-controls e-star made of ABS adhesive; deli-pans made of crystal polystyrene; right-hand and left-hand pan-crispers; flange inner endcaps made with high impact polystyrene; hidden right and left hand door stops; panel bottoms; right-hand and left-hand bottom reinforcements made of galvanized steel; endcap pocket doors and hidden doors made of ABS; front bottom plates made of galvanized steel; bottom harness housings made of ABS; humidity control housing assemblies comprised of membrane automatic humidity controls, inferior frame humidity controls, and superior frame humidity control silkscreens; evaporator assemblies with components, including evaporator coils, defrost heaters, expanded polystyrene caps right and left hand, heat shields left hand and aluminum straps; housings for ice-maker connector covers made of ABS; center hinges and washer assemblies, including hinge pins, and washers; upper hinge brackets made of hot rolled steel; right hand lower hinge brackets; spacer hinges made of polyethylene; block-light switches made of high impact polystyrene; fresh food cantilever shelf supports and foldable shelves made of cold rolled steel; humidity control dampers made of high impact polystyrene; LED housings made of ABS and high impact polystyrene; snow flake anchors made of high impact polystyrene; high efficiency blower motors; condenser fan motors; blower motors; run capacitors; compressor controllers; starters—positive temperature coefficient; starter-time starting devices; light sockets; sliding user interfaces; main boards; LED light bulbs; wire harnesses for freezer lights, freezers, machine compartments, short mechanical controls, main, fresh food, and main board housings; harnesses and labels; sub-assembly control boxes and assemblies including box controls, light bulbs, light sockets, cold controls, light switches, cold control knobs, timer defrost/adaptive defrost controls, screws (#6-9 20 x 7/16), diffuser bottoms, diffuser tops, wire harnesses, plastic tubes, and foil tapes; sub-assemblies—electronic control boxes and components, including housing controls, knob controls, potentiometer boards, ERF 1500 boards, light switches, light sockets, light bulbs, temperature sensors, housing covers, housing gaskets, diffuser expanded polystyrene housings, heat shields, wire harnesses and labels; sub-assemblies—electronic control boxes and mechanical components, including box controls, diffuser bottoms, diffuser tops, seals, aluminum tapes, wire sleeves, cold controls, timer defrosts, light switches, knob controls, screws (# 6-20 x 7/16), light bulbs, light bulb sockets and wire harnesses; and, defrost timers (duty rate ranges from duty-free to 8.6%). The request indicates that suction tube connectors with copper tubing is subject to antidumping/countervailing duty (AD/CVD) orders if imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that certain materials/components are subject to special duties under Section 232 of the Trade Expansion Act of 1962 (Section 232) and Section 301 of the Trade Act of 1974 (Section 301), depending on the country of origin. The applicable Section 232 and Section 301 decisions require subject merchandise to be admitted to FTZs in privileged foreign status.

Public comment is invited from interested parties. Submissions shall be addressed to the Board's Executive Secretary at the address below. The closing period for their receipt is May 28, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: April 10, 2019.
Andrew McGilvray,
Executive Secretary.

[FR Doc. 2019-07546 Filed 4-15-19; 8:45 am]

BILLING CODE 3510-DS-P